DEPARTMENT OF LABOR

Employment and Training Administration

[TA-W-39,666]

International Wire Insulated, Elkmont Extrusion, Elkmont, Alabama; Notice of Termination of Investigation

Pursuant to section 221 of the Trade Act of 1974, an investigation was initiated on July 23, 2001 in response to a petition filed by a company official on behalf of workers at International Wire Insulated, Elkmont Extrusion, Elkmont, Alabama.

This case is being terminated upon the petitioner's request to withdraw the petition. Consequently, further investigation in this case would serve no purpose, and the investigation has been terminated.

Signed at Washington, DC this 27th day of November 2001.
Linda G. Poole,
Certifying Officer, Division of Trade Adjustment Assistance.

[FR Doc. 01-30072 Filed 12-4-01; 8:45 am]

BILLING CODE 4510-30-M